DEPARTMENT OF HEALTH AND HUMAN SERVICES

Centers for Disease Control and Prevention

[CDC-2015-0002, Docket Number NIOSH-244-A]

Request for Comment on the Second Decade of National Occupational Research Agenda (NORA)

AGENCY: National Institute for Occupational Safety and Health (NIOSH) of the Centers for Disease Control and Prevention (CDC), Department of Health and Human Services (HHS).

ACTION: Request for information and comment.

SUMMARY: The National Institute for Occupational Safety and Health of the Centers for Disease Control and Prevention announces the availability of NIOSH Docket Number 244-A entitled Request for Comment on the Second Decade of NORA for public comment. To view the notice, visit http://www.regulations.gov and enter CDC-2015-0002 in the search field and click “Search.”

Public comment period: Electronic or written comments must be received by March 24, 2015.

ADDRESSES: You may submit comments, identified by CDC-2015-0002 and Docket Number NIOSH-244-A, by either of the following two methods:

• Federal eRulemaking Portal: http://www.regulations.gov Follow the instructions for submitting comments.

• Mail: National Institute for Occupational Safety and Health, NIOSH Docket Office, 1090 Tusculum Avenue, MS C-34, Cincinnati, Ohio 45226-1998.

Instructions: All information received in response to this notice must include the agency name and docket number [CDC-2015-0002; NIOSH-244-A]. All relevant comments received will be posted without change to http://www.regulations.gov, including any personal information provided. All electronic comments should be formatted in Microsoft Word. All information received in response to this notice will also be available for public examination and copying at the NIOSH Docket Office, 1150 Tusculum Avenue, Room 155, Cincinnati, OH 45226.

SUPPLEMENTARY INFORMATION: Background: The National Institute for Occupational Safety and Health (NIOSH) is evaluating the impact of the National Occupational Research Agenda (NORA, http://www.cdc.gov/niosh/nora/). NORA is a partnership program to stimulate innovative research and improved workplace practices. Begun in 1996, NORA has become a research framework for NIOSH and the nation. Diverse parties collaborate to identify the most critical issues in workplace safety and health. Partners work together to develop goals and objectives for addressing these needs. Participation in NORA is broad, including stakeholders from universities, large and small businesses, professional societies, government agencies, and worker organizations.

The program entered its second decade in 2006 with a new sector based structure to better move research to practice within workplaces. The national agenda is developed and implemented through the NORA Sector Councils. Each Council develops and maintains an agenda for its sector (http://www.cdc.gov/niosh/nora/). The collection of national sector agendas is the agenda for the nation for improvements in occupational safety and health through research and partnerships. Representing all stakeholders, the councils use an open process to set goals, develop strategies, encourage partnerships, and promote improved workplace practices.

NIOSH is reviewing the accomplishments of the second decade of NORA and is preparing for the third decade, which will start in 2016. As a part of this review, NIOSH is seeking comments from partners and the public to evaluate the second decade and plan for the third decade of NORA. NIOSH is requesting the following feedback:

Please describe the most significant successes and challenges of your engagement with NIOSH during the second decade of NORA (2006 to present).

FOR FURTHER INFORMATION CONTACT: Sidney C. Soderholm, Ph.D., NORA Coordinator, CDC—National Institute for Occupational Safety and Health, 395 E St. SW., Suite 9200, Washington, DC 20201 or call (202) 245-0665. This is not a toll free number.

Dated: January 15, 2015.
John Howard,
Director, National Institute for Occupational Safety and Health, Centers for Disease Control and Prevention.

[FR Doc. 2015-01208 Filed 1-22-15; 8:45 am]

BILLING CODE 4163-19-P